POSTAL REGULATORY COMMISSION

[Docket No. A2009-1; Order No. 238]

Post Office Closing

AGENCY: Postal Regulatory Commission.

ACTION: Notice.

SUMMARY: This document informs the public that an appeal of the closing of the Hacker Valley, WV post office has been filed. It identifies preliminary steps and provides a procedural schedule. Publication of this document will allow the Postal Service, petitioner, and others to take appropriate action.

ADDRESSES: Submit comments electronically via the Commission's Filing Online system at http://www.prc.gov.

FOR FURTHER INFORMATION CONTACT: Stephen L. Sharfman, General Counsel, 202-789-6820 and stephen.sharfman@prc.gov.

SUPPLEMENTARY INFORMATION: Notice is hereby given that pursuant to 39 U.S.C. 404(d), the Commission has received an appeal of the closing of the Hacker Valley Post Office, Hacker Valley, West Virginia 26222. The appeal, which was received by the Commission June 30, 2009, was postmarked June 20, 2009 and, therefore, is deemed constructively filed on that date.¹ The appeal was filed as a Participant Statement on PRC Form 61. Petitioner will have the option of filing supplemental information or facts by August 4, 2009. The Commission hereby institutes a proceeding under 39 U.S.C. 404(d)(5) and designates the case as Docket No. A2009-1 to consider the petitioner's appeal.

¹ The Postal Accountability and Enhancement Act section 1006 amends 39 U.S.C. 404(d) to provide that an appeal sent through the mails is deemed received by the Commission on the date of the postmark on the envelope in which the appeal is mailed.

Categories of issues raised. The categories of issues that appear to be raised include:

1. Effect on the community (39 U.S.C. 404(d)(2)(A)(i)); and

2. Effect on employees (39 U.S.C. 404(d)(2)(A)(ii)).

After the Postal Service files the administrative record and the Commission reviews it, the Commission may find that there are more legal issues than those set forth above or that the Postal Service's determination disposes of one or more of those issues. The deadline for the Postal Service to file the administrative record with the Commission is July 15, 2009. 39 CFR 3001.113.

Availability; Web site posting. The Commission has posted the appeal and supporting material on its Web site at http://www.prc.gov. Additional filings in this case and participants' submissions also will be posted on the Web site, if provided in electronic format or amenable to conversion, and not subject to a valid protective order. Information on how to use the Commission's Web site is available online or by contacting the Commission's webmaster via telephone at 202-789-6873 or electronic mail at PRC-WEBMASTER@prc.gov.

The appeal and all related documents are also available for public inspection in the Commission's docket section. Docket section hours are 8 a.m. to 4:30 p.m., Monday through Friday, except on Federal government holidays. Docket section personnel may be contacted via electronic mail at prc-docket@prc.gov or via telephone at 202-789-6846.

Filing of documents. All filing of documents in this case shall be made using the Internet (Filing Online) pursuant to Commission rules 9(a) and 10(a) at the Commission's Web site, http://www.prc.gov, unless a waiver is obtained. 39 CFR 3001.9(a) and 10(a). Instructions for obtaining an account to file documents online may be found on the Commission's Web site, http://www.prc.gov, or by contacting the Commission's docket section at prc-docket@prc.gov or via telephone at 202-789-6846. The Commission waives the Filing Online requirement for the petitioner.

Intervention. Those, other than the petitioner and respondent, wishing to be heard in this matter are directed to file a notice of intervention on or before July 31, 2009 in accordance with 39 CFR 3001.111(b). The notice of intervention shall be filed using the Internet (Filing Online) at the Commission's Web site, http://www.prc.gov, or by waiver obtained for hardcopy filing. See 39 CFR 3001.9(a) and 10(a).

Public Representative. Richard A. Oliver is designated as the Public Representative to represent the interests of the general public.

Further procedures. By statute the Commission is required to issue its decision within 120 days from the date this appeal was filed. See 39 U.S.C. 404(d)(5). A procedural schedule has been developed to accommodate this statutory deadline.² In the interest of expedition and in light of the 120-day decision schedule, the Commission may request the Postal Service or other participants to provide more information or to submit memoranda of law on any appropriate issue. As required by the Commission rules, if any motions are filed, responses are due 7 days after any such motion is filed. See 39 CFR 3001.21.

² Given the difference between the Commission's actual and constructive receipt of the appeal, the procedural schedule is developed based on the date the appeal was actually received, except for the due date of the Commission's decision. This will afford participants sufficient time to develop the record without compromising the Commission's ability to issue a timely decision. Intervenor statements or briefs, including from the Public Representative, are due within the time allowed for such statements or initial, reply, or answering briefs as appropriate.

It is ordered:

1. The Postal Service shall file the administrative record in this appeal or otherwise file a responsive pleading to the appeal by July 15, 2009.

2. The procedural schedule to this order is listed below and hereby adopted.

3. The petitioner is granted a waiver from Online Filing.

4. Pursuant to 39 U.S.C. 505, Richard A. Oliver is designated officer of the Commission (Public Representative) to represent the interests of the general public.

5. The Secretary shall arrange for publication of this notice and order and procedural schedule in the Federal Register.

Procedural Schedule
June 20, 2009 | Filing of Appeal.
July 15, 2009 | Deadline for Postal Service to file administrative record in this appeal or responsive pleading.
July 31, 2009 | Deadline for filing petitions to intervene (see 39 CFR 3001.111(b)).
August 4, 2009 | Deadline for supplemental information or facts and/or initial briefs in support of petition (see 39 CFR 3001.115(a), (b) and (e)).
August 24, 2009 | Deadline for answering brief in support of Postal Service (see 39 CFR 3001.115(c)).
September 8, 2009 | Deadline for reply briefs in response to answering briefs (see 39 CFR 3001.115(d)).
September 15, 2009 | Deadline for motions requesting oral argument; the Commission will schedule oral argument only when it is a necessary addition to the written filings (see 39 CFR 3001.116).
October 18, 2009 | Expiration of the Commission 120-day decisional schedule (see 39 U.S.C. 404(d)(5)).

Dated: July 6, 2009.
By the Commission.
Judith M. Grady,
Secretary.

[FR Doc. E9-16620 Filed 7-10-09; 8:45 am]

BILLING CODE 7710-FW-P